DEPARTMENT OF AGRICULTURE

Forest Service

DEPARTMENT OF THE INTERIOR

Bureau of Land Management

National Forests and Bureau of Land Management Districts Within the Range of the Northern Spotted Owl; Western Oregon and Washington, and Northwestern California; Removal of Survey and Manage Mitigation Measure Standards and Guidelines

AGENCIES: Forest Service, USDA; Bureau of Land Management, USDI. OR935 6334 PG NWFP GP3-0002.

ACTION: Notice of intent to prepare a supplement to a final environmental impact statement.

SUMMARY: The Forest Service and the Bureau of Land Management (BLM) (Collectively the Agencies) will prepare a supplemental environmental impact statement (SEIS) to meet the requirements of a Settlement Agreement pursuant to a lawsuit by Douglas Timber Operators against Forest Service and BLM. The proposed action, generally, is to change the Standards and Guidelines for Management of Habitat for Late-Successional and Old-Growth Forest Related Species Within the Range of the Northern Spotted Owl (Northwest Forest Plan), currently included in planning documents of the Forest Service and BLM. Specifically, the Agencies propose to remove the Survey and Manage mitigation measure standards and guidelines. Habitat needs of the affected rare or little-known species would rely on other elements of the Northwest Forest Plan and the existing Forest Service Sensitive Species and the BLM Special Status Species programs, as needed and appropriate. The proposed action would amend land and resource management plans for National Forests and BLM Districts within the range of the northern spotted owl (generally western Oregon and Washington, and northwestern California). This action will be addressed in a supplement to a final environmental impact statement because the affected species and their management were specifically addressed in the Agency's SEIS for Amendments to the Survey and Manage, Protection Buffer and other Mitigation Measures Standards and Guidelines, issued in November, 2000, and because the species and their habitat were also addressed in the SEIS for the Northwest Forest Plan, issued in February, 1994.

DATES: Comments concerning the scope of the analysis should be received in writing by November 20, 2002. No public scoping meetings are planned.

ADDRESSES: Send written comments concerning this proposal to: Comments, SEIS for Survey and Manage, PO Box 2965, Portland, Oregon 97203.

FOR FURTHER INFORMATION CONTACT: Richard C. Prather, SEIS Team Leader, PO Box 2965, Portland, Oregon 97203.

SUPPLEMENTARY INFORMATION: This SEIS will evaluate removing the Survey and Manage mitigation measure standards and guidelines. The SEIS may also consider the affected species for inclusion in the existing Forest Service Sensitive Species program and the BLM Special Status Species program as appropriate. This action would eliminate an overlapping program, increase efficiency and reduce costs.

Adoption of the proposed action would affect National Forest System (NFS) lands and public lands administered by the BLM within the range fo the northern spotted owl, generally in western Oregon and Washington, and in northwestern California. The Record of Decision for this SEIS will amend:

For the Forest Service, the National Forest Land and Resource Management Plans for Gifford Pinchot, Mt. Baker-Snoqualmie, Olympic, Wenatchee, and Okanogan National Forests in Washington; Deschutes, Mt. Hood, Rogue River, Siuslaw, Siskiyou, Umpqua, Willamette, and Winema National Forests in Oregon; and Six Rivers, Klamath, Lassen, Mendocino, Modoc, and Shasta-Trinity National Forests in California.

For the Bureau of Land Management, Resource Management Plans for Salem, Eugene, Roseburg, Medford, and Coos Bay Districts in Oregon; the Klamath Falls Resource Area of the Lakeview District, also in Oregon; and the Arcata, Redding, and Ukiah field offices in California. Also the King Range National Conservation Area Management Plan in the Arcata Resource Area in California. This decision would not apply to the Headwaters area also in California for which a separate management plan is being written.

Preliminary issues expected to be addressed in the SEIS include: the cost of implementing the Survey and Manage program, its effect on other Agency programs and priorities, and whether the proposed action meets all applicable laws and regulations including the Oregon and California Lands Act, the Federal Land Policy and Management Act, the National Forest Management Act, and the Endangered Species Act, and those statute's implementing regulations.

Although scoping is not required for supplements to environmental impact statements (40 CFR 1502.9(c)(4)), the Agencies are inviting scoping comments at this time. Comments are sought that will help the Agencies identify issues to be addressed in the SEIS, identify significant issues related to the proposed action, refine the proposed action, identify alternatives to the proposed action, and identify interested and affected persons. For comments to be most useful in this analysis, they should be submitted in writing by the date identified above. The Agencies have no plans to conduct public scoping meetings.

A scoping notice will be prepared and circulated to affected Federal, State, and local agencies, affected tribes, and individuals and organizations previously expressing an interest in the Survey and Manage standards and guidelines. The scoping notice, along with background information, will also be posted on the Internet: http://or.blm.gov/surveyandmanagee.

The Forest Service and BLM will be joint lead agencies for this analysis. Because of potential indirect effects to threatened or endangered species, the two agencies will consult with the U.S. Fish and Wildlife Service and National Marine Fisheries Service pursuant to the Endangered Species Act (ESA). However, none of the species covered by the Survey and Manage standards and guidelines is listed under ESA as threatened or endangered. Other Federal agencies including the Forest Service's Pacific Southwest Research Stations, Bureau of Indian Affairs, National Park Service, Environmental Protection Agency (EPA), U.S. Army Corps of Engineers, Natural Resources Conservation Service, the U.S. Geological Survey Biological Resources Division, EPA Research Laboratory, and Tribal, local, and state governments will also be involved.

The responsible officials for National Forest System lands will be the Regional Forester, Pacific Northwest Region, PO Box 3623, Portland, OR 97208 and the Regional Forester, Pacific Southwest Region, 1323 Club Drive, Vallejo, CA 94592. The responsible official for public lands administered by the BLM will be the State Director for Oregon and Washington, PO Box 2965, Portland, OR 97208 and the State Director for California, 2800 Cottage Way, Room W-1834, Sacramento, CA 95825.

The draft SEIS is expected to be filed with the EPA in January 2003 and will be available for public review. The comment period on the draft SEIS will be 90 days from the date the EPA publishes the notice of availability in the Federal Register.

The Forest Service and BLM believe, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service and BLM at a time when the agencies can meaningfully consider them and respond to them in the final EIS.

To assist the Forest Service and BLM in identifying and considering issues and concerns on the proposed action, comments on the draft SEIS should be as specific as possible. It is also helpful if comments refer to specific pages or chapters of the draft document. Comments may also address the adequacy of the draft SEIS or the merits of the alternatives formulated and discussed in the statement. Reviewers may wish to refer to the Council on Environmental Quality Regulations for implementing the procedural provisions of the National Environmental Policy Act at 40 CFR 1503.3 in addressing these points.

It is expected that the final SEIS will be filed with the EPA approximately June 2003. The Agencies anticipate there will be a Record of Decision signed in July 2003 by the four responsible officials listed above.

Richard Sowa,
Acting Regional Forester, USFS R6.
Elaine Marquis-Brong,
State Director, BLM Oregon & Washington.
Dated: October 4, 2002.
Mike Pool,
State Director, California, USDI Bureau of Land Management.
Kent P. Connaughton,
Deputy Regional Forester, USFS Region 5.

[FR Doc. 02-26779 Filed 10-17-02; 11:07am]

BILLING CODE 4310-33-M